NATIONAL SCIENCE FOUNDATION

Sunshine Act Meetings

The National Science Board (NSB) hereby gives notice of two corrected times in previously noticed meeting sessions. The original Federal Register notice appeared on May 2, 2022, at 87 FR 25680-81.

FOR FURTHER INFORMATION CONTACT: Ann Bushmiller, 703-292-8304.

SUPPLEMENTARY INFORMATION:

Correction

In the Federal Register of May 2, 2022, in FR Doc. 2022-09503, on page 25681, in the first column, correct the Plenary Board Meeting Open Session time to read: 10:30 a.m.-1:40 p.m. In the second column of the same page, correct the Plenary Board Meeting Open Session time to read: 1:30 p.m.-2:30 p.m.

Chris Blair,
Executive Assistant to the National Science Board Office.

[FR Doc. 2022-09981 Filed 5-5-22; 11:15 am]

BILLING CODE 7555-01-P